ENVIRONMENTAL PROTECTION AGENCY

[FRL-6840-4]

Proposed CERCLA Administrative Cost Recovery Settlement for the Bioclinical Laboratories Superfund Site, Bohemia, Suffolk County, New York

AGENCY: Environmental Protection Agency (EPA).

ACTION: Notice; request for public comment.

SUMMARY: In accordance with section 122(i) of the Comprehensive Environmental Response, Compensation, and Liability Act of 1980, as amended (“CERCLA”), 42 U.S.C. 9622(i), notice is hereby given by the U.S. Environmental Protection Agency (“EPA”), Region II, of a proposed administrative settlement pursuant to section 122(h) of CERCLA, 42 U.S.C. 9622(h), for recovery of past response costs concerning the Bioclinical Laboratories Superfund Site (“Site”) located at 1585 Smithtown Avenue in Bohemia, Suffolk County, New York, with Harold Carpentier and Carpentier Construction Company, Inc. (“Settling Parties”). The settlement requires the settling parties to pay the principal sum of $100,000.00 in three payments plus interest at the prevailing Superfund interest rate (5.30%), to the EPA Hazardous Substance Superfund in reimbursement of past response costs incurred with respect to the Site. The Settlement includes a covenant not to sue the settling parties pursuant to section 107(a) of CERCLA, 42 U.S.C. 9607(a), for all costs incurred at or in connection with the Site by the United States prior to December 31, 1999. For thirty (30) days following the date of publication of this notice, the U.S. Environmental Protection Agency (“EPA” or “Agency”) will receive written comments relating to the settlement. The Agency will consider all comments received and may modify or withdraw its consent to the settlement if comments received disclose facts or considerations that indicate that the proposed settlement is inappropriate, improper or inadequate. The Agency's response to any comments received will be available for public inspection at the EPA, Region II, 290 Broadway, New York, New York 10007-1866.

DATES: Comments must be submitted on or before August 24, 2000.

ADDRESSES: The proposed settlement is available for public inspection at the EPA, 290 Broadway, New York, New York 10007-1866. Comments should reference the Bioclinical Laboratories Superfund Site located in Bohemia, New York, Docket No. CERCLA-02-2000-2015. A copy of the proposed settlement may be obtained from the individual listed below.

FOR FURTHER INFORMATION CONTACT: Henry A. Guzman, Assistant Regional Counsel, New York/Caribbean Superfund Branch, Office of Regional Counsel, U.S. Environmental Protection Agency, 17th Floor, 290 Broadway, New York, New York 10007-1866. Telephone: 212-637-3166.

Dated: July 13, 2000.
William J. Muszynski,
Acting Regional Administrator, Region 2.

[FR Doc. 00-18791 Filed 7-24-00; 8:45 am]

BILLING CODE 6560-50-M